DEPARTMENT OF THE INTERIOR

National Park Service

General Management Plan, Draft Environmental Impact Statement, Navajo National Monument, Arizona

AGENCY: National Park Service, Department of the Interior.

ACTION: Availability of draft environmental impact statement and general management plan for Navajo National Monument.

SUMMARY: Pursuant to section 102(2)(C) of the National Environmental Policy Act of 1969, the National Park Service announces the availability of a draft Environmental Impact Statement and General Management Plan for Navajo National Monument, Arizona.

DATES: The draft Environmental Impact Statement and General Management Plan will remain available for public review for 60 days after publication of this notice. No public meetings are scheduled at this time.

Comments: If you wish to comment, you may submit your comments by any one of several methods. You may mail comments to Superintendent, Navajo National Monument, HC 71, Box 3, Tonalea, Arizona 86044-9704. You may also comment via the Internet to Suzy_Stutzman@nps.gov. Please submit Internet comments either as an ASCII file avoiding the use of special characters and any form of encryption, as a Microsoft Word file, or as a Word Perfect file. Please also include your name and return address in your Internet message. If you do not receive a confirmation from the system that we have received your Internet message, contact us directly by calling Suzy Stutzman at 303-987-6671. Finally, you may hand-deliver comments to the Navajo National Monument visitor center or the Intermountain Support Office—Denver, 12795 W. Alameda Parkway, Lakewood, CO (room 186).

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the draft Environmental Impact Statement and General Management Plan are available from the Superintendent, Navajo National Monument, HC 71, Box 3, Tonalea, Arizona 86044-9704. The plan is also available on the internet at: http://www.nps.gov/planning/nava.

Public reading copies of the document will be available for review at the following locations: Office of the Superintendent, Navajo National Monument, Tonalea, Arizona 86044, Telephone: 928-672-2700. Planning and Environmental Quality, Intermountain Support Office—Denver, National Park Service, 12795 W. Alameda Parkway, Lakewood, CO 80228, Telephone: (303) 987-6671. Office of Public Affairs, National Park Service, Department of Interior, 18th and C Streets NW., Washington, DC 20240, Telephone: (202) 208-6843.

FOR FURTHER INFORMATION CONTACT: Contact Superintendent, Navajo National Monument at the above address and telephone number.

SUPPLEMENTARY INFORMATION: This general management plan will guide the management of Navajo National Monument for the next 15 to 20 years. The general management plan considers three alternatives—a no-action and two action alternatives, including the National Park Service preferred alternative. The preferred alternative would carefully manage the monument's existing land base and emphasize partnerships and cooperation with American Indian tribes and others to protect Navajo National Monument's resources and promote visitor understanding of the entire region. Opportunities for more innovative and diverse programs, education and outreach, cross-training, and broader resource management would be greatly enhanced by a collaborative regional effort.

The draft environmental impact statement assess impacts to cultural resources (archeological resources, historic structures, cultural landscapes, ethnographic resources, and museum collections); natural resources (water resources, wetlands and floodplains, soils, vegetation, wildlife, and threatened, endangered, candidate, and species of special concern); visitor understanding and experience; remoteness; the monument's socio-economic environment; and monument operations.

Dated: April 10, 2002.
Michael D. Sunder,
Deputy Regional Director, Intermountain Region, National Park Service.

[FR Doc. 02-17802 Filed 7-15-02; 8:45 am]

BILLING CODE 4310-70-P